DEPARTMENT OF ENERGY

Federal Energy Regulatory Commission

Combined Notice of Filings

Take notice that the Commission has received the following Natural Gas Pipeline Rate and Refund Report filings:

Filings Instituting Proceedings

Docket Numbers: PR16-14-000.

Applicants: NorthWestern Corporation.

Description: Tariff filing per 284.123(b)(1),: Revised Rate Schedules for Transportation and Storage Service to be effective 1/1/2016; Filing Type: 1000.

Filed Date: 1/27/16.

Accession Number: 201601275251.

Comments/Protests Due: 5 p.m. ET 2/17/16.

Docket Numbers: PR16-15-000.

Applicants: Columbia Gas of Maryland, Inc.

Description: Tariff filing per 284.123(b)(1)/.: CMD SOC 1-28-2016 to be effective 1/1/2016; Filing Type: 980.

Filed Date: 1/28/16.

Accession Number: 201601285120.

Comments/Protests Due: 5 p.m. ET 2/18/16.

Docket Numbers: PR16-16-000.

Applicants: Public Service Company of Colorado.

Description: Tariff filing per 284.123(b)(1)/.: 20160128_PSCo SOR Eff 1-1-16 to be effective 1/1/2016; Filing Type: 980.

Filed Date: 1/28/16.

Accession Number: 201601285136.

Comments/Protests Due: 5 p.m. ET 2/18/16.

Docket Number: PR16-17-000.

Applicants: Acadian Gas Pipeline System.

Description: Tariff filing per 284.123(e) + (g): SOC Update per NAESB Nomination Timeline Language Requirement/FERC Order 809 to be effective 4/1/2016; Filing Type: 1280.

Filed Date: 1/28/2016.

Accession Number: 201601285248.

Comments Due: 5 p.m. ET 2/18/16.

284.123(g) Protests Due: 5 p.m. ET 3/28/16.

Docket Number: PR16-18-000.

Applicants: Cypress Gas Pipeline, LLC.

Description: Tariff filing per 284.123(e) + (g): SOC Update per NAESB Nomination Timeline Language Requirement/FERC Order 809 to be effective 4/1/2016; Filing Type: 1280.

Filed Date: 1/28/2016.

Accession Number: 201601285251.

Comments Due: 5 p.m. ET 2/18/16.

284.123(g) Protests Due: 5 p.m. ET 3/28/16.

Docket Numbers: PR16-19-000.

Applicants: Southern California Gas Company.

Description: Tariff filing per 284.123(b)(1)/.: Revision of Statement of Rates to be effective 1/28/2016; Filing Type: 980.

Filed Date: 1/29/16.

Accession Number: 201601295026.

Comments/Protests Due: 5 p.m. ET 2/19/16.

Docket Number: PR16-20-000.

Applicants: Enterprise Texas Pipeline LLC.

Description: Tariff filing per 284.123(e) + (g): SOC Update per NAESB Nomination Timeline Language Requirement/FERC Order 809 to be effective 4/1/2016; Filing Type: 1280.

Filed Date: 1/29/2016.

Accession Number: 201601295047.

Comments Due: 5 p.m. ET 2/19/16.

284.123(g) Protests Due: 5 p.m. ET 3/29/16.

Docket Numbers: PR16-21-000.

Applicants: Jefferson Island Storage & Hub, L.L.C.

Description: Tariff filing per 284.123(e)/.224: JISH Revised Statement of Operating Terms and Conditions, Version 3.0.0 to be effective 4/1/2016; Filing Type: 770.

Filed Date: 1/29/16.

Accession Number: 201601295067.

Comments/Protests Due: 5 p.m. ET 2/19/16.

Docket Numbers: PR16-22-000.

Applicants: Columbia Gas of Ohio, Inc.

Description: Tariff filing per 284.123(b)(1)/.: COH SOC 1-29-2016 to be effective 12/31/2015; Filing Type: 980.

Filed Date: 1/29/16.

Accession Number: 201601295078.

Comments/Protests Due: 5 p.m. ET 2/19/16.

Docket Number: PR16-23-000.

Applicants: Enterprise Intrastate LLC.

Description: Tariff filing per 284.123(e) + (g): SOC Update per NAESB Nomination Timeline Language Requirement/FERC Order 809 to be effective 4/1/2016; Filing Type: 1280.

Filed Date: 1/29/2016.

Accession Number: 201601295146.

Comments Due: 5 p.m. ET 2/19/16.

284.123(g) Protests Due: 5 p.m. ET 3/29/16.

Docket Numbers: PR16-24-000.

Applicants: Bay Gas Storage Company, Ltd.

Description: Tariff filing per 284.123/.224: Bay Gas Storage Company, Ltd. FERC Order No. 809 Compliance Filing to be effective 4/1/2016; Filing Type: 790.

Filed Date: 1/29/16.

Accession Number: 201601295185.

Comments/Protests Due: 5 p.m. ET 2/19/16.

Docket Numbers: RP16-587-000.

Applicants: Vector Pipeline L.P.

Description: Section 4(d) Rate Filing: Negotiated Rate Filing—Union Gas Limited to be effective 4/1/2016.

Filed Date: 2/5/16.

Accession Number: 20160205-5021.

Comments Due: 5 p.m. ET 2/17/16.

Docket Numbers: RP16-588-000.

Applicants: Midcontinent Express Pipeline LLC.

Description: Section 4(d) Rate Filing: Clean Up Filing to be effective 3/7/2016.

Filed Date: 2/5/16.

Accession Number: 20160205-5056.

Comments Due: 5 p.m. ET 2/17/16.

Docket Numbers: RP16-589-000.

Applicants: Kinder Morgan Louisiana Pipeline LLC.

Description: Section 4(d) Rate Filing: Clean Up Filing to be effective 3/7/2016.

Filed Date: 2/5/16.

Accession Number: 20160205-5063.

Comments Due: 5 p.m. ET 2/17/16.

Docket Numbers: RP16-590-000.

Applicants: National Fuel Gas Supply Corporation.

Description: Section 4(d) Rate Filing: GT&C Section 15 Correction to be effective 10/1/2015.

Filed Date: 2/5/16.

Accession Number: 20160205-5151.

Comments Due: 5 p.m. ET 2/17/16.

Docket Numbers: RP16-591-000.

Applicants: Monroe Gas Storage Company, LLC.

Description: Petition for Declaratory Order of Monroe Gas Storage Company, LLC under RP16-591.Filed Date: 2/5/16.

Accession Number: 20160205-5245.

Comments Due: 5 p.m. ET 2/17/16.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP16-505-001.

Applicants: Portland General Electric Company.

Description: Compliance filing NAESB V3 Standards Compliance Filing Correction to be effective 4/1/2016.

Filed Date: 2/5/16.

Accession Number: 20160205-5150.

Comments Due: 5 p.m. ET 2/17/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 8, 2016.
Nathaniel J. Davis, Sr.,
Deputy Secretary.

[FR Doc. 2016-03310 Filed 2-17-16; 8:45 am]

BILLING CODE 6717-01-P